DEPARTMENT OF ENERGY

Federal Energy Regulatory Commission

[Project No. 2100-182—California]

California Department of Water Resources; Notice of Availability of Environmental Assessment

In accordance with the National Environmental Policy Act of 1969 and the Federal Energy Regulatory Commission's (Commission or FERC) regulations, 18 Code of Federal Regulations part 380, the Office of Energy Projects has reviewed an application filed June 23, 2017, by the California Department of Water Resources to permit Pacific Gas and Electric Company to reroute a portion of its transmission line across project lands in the vicinity of the project's Thermalito Diversion Pool at the Feather River Hydroelectric Project No. 2100. The project is located on the Feather River in Butte County, California, and occupies lands of the United States administered by the U.S. Forest Service and the U.S. Bureau of Land Management.

Staff prepared an environmental assessment (EA) for the application that analyzes the potential environmental effects of approving the transmission line reroute as a non-project use of project lands. In the EA, staff concludes that such an approval, with specified environmental protection measures, would not constitute a major federal action that would significantly affect the quality of the human environment.

A copy of the EA is available for review at the Commission's Public Reference Room or may it be viewed on the Commission's Web site at www.ferc.gov using the “eLibrary” link. Enter the docket number P-2100 in the docket number field to access the document. For assistance, contact FERC Online Support at FERCOnlineSupport@ferc.gov or toll-free at 1-866-208-3676, or for TTY, 202-502-8659.

For further information, contact Mr. John Aedo at (415) 369-3335 or by email at john.aedo@ferc.gov.

Dated: August 2, 2017.
Kimberly D. Bose,
Secretary.

[FR Doc. 2017-16756 Filed 8-8-17; 8:45 am]

BILLING CODE 6717-01-P